DEPARTMENT OF THE INTERIOR

Fish and Wildlife Service

Notice of Availability; Draft Environmental Impact Statement on Double-Crested Cormorant Management

AGENCY: Fish and Wildlife Service, Interior.

ACTION: Notice of availability for public comment.

SUMMARY: The U.S. Fish and Wildlife Service has prepared a Draft Environmental Impact Statement, which is available for public review. The DEIS analyzes the potential environmental impacts of several management alternatives for addressing problems associated with increasing double-crested cormorant populations. The analysis provided in the DEIS is intended to accomplish the following: inform the public of the proposed action and alternatives; address public comment received during the scoping period; and disclose the direct, indirect, and cumulative environmental effects of the proposed action and each of the alternatives. The Service invites the public to comment on the DEIS.

DATES: Written comments on the DEIS must be received by January 15, 2002.

ADDRESSES: Requests for copies of the DEIS should be mailed to Chief, Division of Migratory Bird Management, U.S. Fish and Wildlife Service, 4401 N. Fairfax Drive, Room 634, Arlington, Virginia 22203. Copies of the DEIS can also be downloaded from the Division of Migratory Bird Management Web site at: http://migratorybirds.fws.gov/issues/cormorant/cormorant.html.

FOR FURTHER INFORMATION CONTACT: Jon Andrew, Chief, Division of Migratory Bird Management, U.S. Fish and Wildlife Service, 4401 N. Fairfax Drive, MS634, Arlington, VA 22203; phone: 703/358-1714; fax: 703/358-2272.

SUPPLEMENTARY INFORMATION: On November 8, 1999, a notice was published in the Federal Register (64 FR 60826) announcing that the Service intended to prepare an Environmental Impact Statement “ to [address] impacts caused by population and range expansion of the double-crested cormorant in the contiguous United States.” This announcement commenced a public scoping period that ended on June 20, 2000. Over 1,400 public comments were received and were considered in the development of the DEIS, which is now being made available for public review. This notice is provided pursuant to Fish and Wildlife Service regulations for implementing the National Environmental Policy Act of 1969 (40 CFR 1506.6).

The DEIS evaluates six management alternatives to address biological and socioeconomic resource conflicts associated with cormorants: (1) No Action or a continuation of current cormorant management practices (Alternative A); (2) implement only non-lethal management techniques (Alternative B); (3) expand current cormorant damage management policies (Alternative C); (4) establish a new Depredation Order to address public resource conflicts (Alternative D) (PROPOSED ACTION); (5) reduce regional cormorant populations (Alternative E); and (6) establish frameworks for a cormorant hunting season (Alternative F). Our proposed action (Alternative D) modifies the existing Aquaculture Depredation Order and establishes a new Public Resource Depredation Order to allow public resource managers greater flexibility in dealing with cormorant conflicts while ensuring Federal oversight via reporting and monitoring requirements.

You may mail or deliver comments to the Division of Migratory Bird Management, U.S. Fish and Wildlife Service, 4401 N. Fairfax Drive, Room 634, Arlington, Virginia 22203. Additionally, you may submit comments on the DEIS via the internet to: cormorant_eis@fws.gov. Please include your name and return address in your e-mail message, and submit your comments as an ASCII file. Do not use special characters or encryption. If you do not receive a confirmation from the system that we received your e-mail message, you can contact us directly at 703/358-1714.

In order to be considered, submission of comments (written or electronic) must include your name and postal mailing address; we will not consider anonymous comments. All comments received, including names and addresses, will become part of the public record. The public may inspect comments during normal business hours in Room 634 “ Arlington Square Building, 4401 N. Fairfax Drive, Arlington, Virginia. Requests for such comments will be handled in accordance with the Freedom of Information Act and the Council on Environmental Quality's National Environmental Policy Act regulations [40 CFR 1506.6(f)]. Our practice is to make comments available for public review during regular business hours. Individual respondents may request that we withhold their home address from the record, which we will honor to the extent allowable by law. If a respondent wishes us to withhold his/her name and/or address, this must be stated prominently at the beginning of the comment.

Several public hearings will be held throughout the country during the comment period to solicit further comments from the public. The dates and locations of these hearings are yet to be determined. A notice of public meetings with the locations, dates, and times will be published in the Federal Register.

Kevin R. Adams,
Acting Deputy Director.

[FR Doc. 01-29881 Filed 11-30-01; 8:45 am]

BILLING CODE 4310-55-P